DEPARTMENT OF LABOR

Employment and Training Administration

[TA-W-81,420; TA-W-81,420A]

PEPSICO, Inc., Business & Information Solutions (BIS) Division Including On-Site Leased Workers From Procurestaff, Cognizant, Infosys, Wipro, and TCS; Plano, TX; PEPSICO, Inc., Business & Information Solutions (BIS) Division Including On-Site Leased Workers From Cognizant Technology Solutions and Infosys Technologies Ltd. Bradenton, FL; Amended Certification Regarding Eligibility To Apply for Worker Adjustment Assistance

In accordance with Section 223 of the Trade Act of 1974, as amended (“Act”), 19 U.S.C. 2273, the Department of Labor (Department) issued a Certification of Eligibility to Apply for Worker Adjustment Assistance on May 25, 2012, applicable to workers and former workers of PepsiCo, Inc., Business & Information Solutions (BIS) Division, Plano, Texas (PepsiCo-BIS-Plano). Workers of PepsiCo-BIS are engaged in activities related to the supply of information technology support services.

In response to information obtained during an investigation of a related case, the Department reviewed the certification for workers and former workers of PepsiCo-BIS-Plano.

The Department has received information that PepsiCo, Inc., Business & Information Solutions (BIS) Division, Bradenton, Florida (PepsiCo-BIS-Bradenton) operates in conjunction with PepsiCo-BIS-Plano. PepsiCo-BIS-Bradenton includes on-site leased workers from Cognizant Technology Solutions and Infosys Technologies Ltd. Based on these findings, the Department is amending this certification to include PepsiCo-BIS-Bradenton.

The amended notice applicable to TA-W-81,420 is hereby issued as follows:

All workers of PepsiCo, Inc., Business & Information Solutions (BIS), including on-site leased workers from Procurestaff, Cognizant, Infosys, Wipro, and TCS, Plano, Texas (TA-W-81,420) and PepsiCo, Inc., Business & Information Solutions (BIS) Division, including on-site leased workers of Cognizant Technology Solutions and Infosys Technologies Ltd., Bradenton, Florida (TA-W-81,420A), who became totally or partially separated from employment on or after March 14, 2011, through May 25, 2014, and all workers in the group threatened with total or partial separation from employment on May 25, 2012 through May 25, 2014, are eligible to apply for adjustment assistance under Chapter 2 of Title II of the Trade Act of 1974, as amended.

Signed in Washington, DC, this 17th day of January 2013.
Del Min Amy Chen,
Certifying Officer, Office of Trade Adjustment Assistance.

[FR Doc. 2013-02537 Filed 2-5-13; 8:45 am]

BILLING CODE 4510-FN-P